DEPARTMENT OF AGRICULTURE

Animal and Plant Health Inspection Service

[Docket No. APHIS-2023-0028]

Swine Vesicular Disease Status of the Regions of Tuscany and Umbria, Italy

AGENCY: Animal and Plant Health Inspection Service, USDA.

ACTION: Notice.

SUMMARY: We are advising the public that we are recognizing the regions of Tuscany and Umbria, Italy as being free of swine vesicular disease. This recognition is based on a risk evaluation we prepared in connection with this action and made available to the public for review and comment through a previous notice. As a result of this action, live swine, pork, and pork products may safely be imported into the United States from the regions of Tuscany and Umbria, Italy subject to conditions in the regulations. This notice also announces the availability of our final environmental assessment and finding of no significant impact.

DATES: This change in the SVD status of the regions of Tuscany and Umbria, Italy will be recognized on July 12, 2024.

ADDRESSES: You may read the documents referenced in this notice and the comments we received by going to www.regulations.gov, or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Chip Wells, Senior Veterinary Medical Officer, Regionalization Evaluation Services (RES), Strategy & Policy, Veterinary Services (VS), APHIS, 4700 River Road, Unit 38, Riverdale, MD 20737-1231; (301) 851-3317; email: AskRegionalization@usda.gov.

SUPPLEMENTARY INFORMATION: The regulations in 9 CFR part 94 (referred to below as the regulations) govern the importation of certain animals and animal products into the United States in order to prevent the introduction of various animal diseases, including swine vesicular disease (SVD). This is a dangerous and communicable disease of swine.

Within part 94, § 94.12 contains requirements governing the importation of pork or pork products from regions where SVD exists. Section 94.14 prohibits the importation of domestic swine which are moved from or transit any region in which SVD is known to exist.

In accordance with § 94.12(a)(1), the Animal and Plant Health Inspection Service (APHIS) maintains a web-based list of regions which the Agency considers free of SVD. Paragraph (a)(2) of this section states that APHIS will add a region to this list after it conducts an evaluation of the region and finds that SVD is not present.

The regulations in § 92.2 contain requirements for requesting the recognition of the animal health status of a region (as well as for the approval of the export of a particular type of animal or animal product to the United States from a foreign region). If, after review and evaluation of the information submitted in support of the request, APHIS believes the request can be safely granted, APHIS will make its evaluation available for public comment through a document published in the Federal Register. Following the close of the comment period, APHIS will review all comments received and will make a final determination regarding the request that will be detailed in another document published in the Federal Register.

In accordance with that process, the Government of Italy requested that APHIS evaluate the SVD disease status of the regions of Tuscany and Umbria. Based on our evaluation, we determined that the regions of Tuscany and Umbria, Italy are free of SVD and that the surveillance, prevention, and control measures implemented by Italy are sufficient to minimize the likelihood of introducing SVD into the United States via imports of species or products susceptible to this disease.

On August 23, 2023, we published in the Federal Register (88 FR 57407-57408, Docket No. APHIS-2023-0028) a notice ¹ in which we announced the availability for review and comment of our evaluation of the SVD status of the regions of Tuscany and Umbria, Italy, as well as an environmental assessment (EA). We solicited comments on the notice for 60 days ending on October 23, 2023. We received five comments, all of which supported our proposed recognition of the regions of Tuscany and Umbria, Italy as free of SVD.

¹ To view the notice, supporting documents, and comments we received, go to https://www.regulations.gov/document/APHIS-2023-0028-0001.

Therefore, based on the findings of our evaluation, we are announcing our determination to add the regions of Tuscany and Umbria, Italy to the list of regions declared free of SVD. This list is available on the APHIS website at https://www.aphis.usda.gov/aphis/ourfocus/animalhealth/animal-and-animal-product-import-information/animal-health-status-of-regions.

National Environmental Policy Act

After reviewing and evaluating the comments received during the comment period, APHIS has prepared a final EA, which provides the public with documentation of APHIS' review and analysis of any potential environmental impacts associated with the recognition of the regions of Tuscany and Umbria, Italy as free of SVD. The final EA was prepared in accordance with: (1) The National Environmental Policy Act (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372). Based on our EA, the response to public comment, and other pertinent information, APHIS has reached a finding of no significant impact with regard to the recognition of the regions of Tuscany and Umbria, Italy as free of SVD.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 7th day of June 2024.
Michael Watson,
Administrator, Animal and Plant Health Inspection Service.

[FR Doc. 2024-12829 Filed 6-11-24; 8:45 am]

BILLING CODE 3410-34-P